DEPARTMENT OF TRANSPORTATION

Office of the Secretary

Notice of Applications for Certificates of Public Convenience and Necessity and Foreign Air Carrier Permits Filed Under Subpart B (Formerly Subpart Q) During the Week Ending August 29, 2003

The following Applications for Certificates of Public Convenience and Necessity and Foreign Air Carrier Permits were filed under subpart B (formerly subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: OST-2003-16018.

Date Filed: August 25, 2003.

Due Date for Answers, Conforming Applications, or Motion to Modify Scope: August 21, 2003.

Description: Application of Bluebird Cargo Ltd., pursuant to 49 U.S.C. 41302 and subpart B, requesting a foreign air carrier permit to authorize the carrier to provide all-cargo scheduled and charter services between: (1) Any point or points in Iceland and the United States; and (2) between any point or points in the United States and any point or points in a third country or countries.

Docket Number: OST-1999-6319.

Date Filed: August 28, 2003.

Due Date for Answers, Conforming Applications, or Motion to Modify Scope: September 18, 2003.

Description: Application of Northwest Airlines, Inc., pursuant to 49 U.S.C. 41102 and subpart B, requesting to amend its experimental certificate of public convenience and necessity for Route 564 (U.S.-Mexico) to incorporate authority for service between Los Angeles and Mexico City. Northwest also requests that the Department integrate this authority with all of Northwest's existing certificate and exemption authority to the extent consistent with U.S. bilateral agreements and DOT policy.

Docket Number: OST-2003-16063.

Date Filed: August 28, 2003.

Due Date for Answers, Conforming Applications, or Motion to Modify Scope: September 18, 2003.

Description: Application of Orient Thai Airlines Co., Ltd., pursuant to 49 U.S.C. 41301, et seq. and subpart B, requesting a foreign air carrier permit authorizing it to engage in scheduled and charter foreign air transportation of persons, property, and mail between points in Thailand, on the one hand, and the U.S. points New York, Los Angeles and San Francisco, on the other hand, either directly or via intermediate points in other countries, and any charters pursuant to part 212 of the Department's regulations, as necessary.

Andrea M. Jenkins,
Program Manager, Docket Operations, Federal Register Liaison.

[FR Doc. 03-23775 Filed 9-17-03; 8:45 am]

BILLING CODE 4910-62-P